DEPARTMENT OF THE TREASURY

Submission for OMB Review; Comment Request

April 10, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 17, 2002, to be assured of consideration.

U.S. Customs Service (CUS)

OMB Number: 1515-0026.

Form Number: Customs Form 3078.

Type of Review: Extension.

Title: Application for Identification Card.

Description: Customs Form 3078 is used by licensed Cartman, Lighterman, Warehouseman, brokerage firms, foreign trade zones, container station operators, their employees, and employees requiring access to Customs secure areas to apply for an identification card so they may legally handle merchandise in Customs custody.

Respondents: Business or other for-profit, Individuals or households.

Estimated Number of Respondents: 30,000.

Estimated Burden Hours Per Respondent: 15 minutes.

Frequency of Response: On occasion.

Estimated Total Reporting Burden: 9,750 hours.

Clearance Officer: Tracey Denning, U.S. Customs Service, Information Services Branch, Ronald Reagan Building, 1300 Pennsylvania Avenue, NW., Room 3.2.C, Washington, DC 20229, (202) 927-1429.

OMB Reviewer: Alexander T. Hunt, Office of Management and Budget, Room 10202, New Executive Office Building, Washington, DC 20503, (202) 395-7860.

Lois K. Holland,
Departmental Reports Management Officer.

[FR Doc. 02-9253 Filed 4-16-02; 8:45 am]

BILLING CODE 4820-02-P